DEPARTMENT OF THE INTERIOR

Bureau of Land Management

[UTU-79324]

Recreation and Public Purposes, Classification; Utah

AGENCY: Bureau of Land Management, Interior.

ACTION: Notice.

SUMMARY: The following public land in Kane County, Utah has been examined and found suitable for classification for lease under the provisions of the R&PP Act of 1954, as amended (43 U.S.C. 869 et seq.):

N½NE, N½N½SENE, N½NESWNE, E½NW,

Section 21 T. 43 S., R. 6 W. SLBM containing 175 Acres more or less.

Kane County intends to use the land for a public trail and mountain park. The land is not needed for a Federal purpose. Lease or conveyance is consistent with current Bureau of Land Management land use planning and would be in the public interest.

FOR FURTHER INFORMATION CONTACT: Frank Olsen, 318 North 100 East, Kanab, UT 84741.

SUPPLEMENTARY INFORMATION: Classification: The following public land in Kane County, Utah has been examined and found suitable for classification for lease under the provisions of the R&PP Act of 1954, as amended (68 Statue 173):

N½NE, N½N½SENE, N½NESWNE, E½NW,

Section 21 T. 43 S., R. 6 W. SLBM.

Kane County intends to use the land for a public trail and mountain park. The land is not needed for a Federal purpose. Lease is consistent with current Bureau of Land Management land use planning and would be in the public interest. The land is hereby segregated from appropriation under any other public land law, including locations under the mining laws.

DATES: On or before December 17, 2001, interested parties may submit comments regarding the proposed classification. In the absence of adverse comments, the classification will become effective December 31, 3001.

Tom Terry,
Acting Field Office Manager.

[FR Doc. 01-27455 Filed 10-31-01; 8:45 am]

BILLING CODE 4310-40-P